DEPARTMENT OF COMMERCE

International Trade Administration

[C-351-865, C-533-935, C-552-848, C-570-185]

Hard Empty Capsules From Brazil, the People's Republic of China, India, and the Socialist Republic of Vietnam: Postponement of Preliminary Determinations in the Countervailing Duty Investigations

AGENCY: Enforcement and Compliance, International Trade Administration, Department of Commerce.

DATES: Applicable January 15, 2025.

FOR FURTHER INFORMATION CONTACT: Robert Copyak at (202) 482-3542 (Brazil); Laura Delgado at (202) 482-1468 and John Conniff (202) 482-1009 (the People's Republic of China (China)); Gorden Struck at (202) 482-8151 (India), and Jonathan Schueler at (202) 482-9175 (the Socialist Republic of Vietnam (Vietnam)), AD/CVD Operations, Enforcement and Compliance, International Trade Administration, U.S. Department of Commerce, 1401 Constitution Avenue NW, Washington, DC 20230.

SUPPLEMENTARY INFORMATION:

Background

On November 13, 2024, the U.S. Department of Commerce (Commerce) initiated countervailing duty (CVD) investigations of imports of Hard Empty Capsules (capsules) from Brazil, China, India, and Vietnam.¹ Currently, the preliminary determinations are due no later than January 17, 2025.

¹ See Hard Empty Capsules from Brazil, the People's Republic of China, India, and the Socialist Republic of Vietnam: Initiation of Countervailing Duty Investigations, 89 FR 91680 November 20, 2024) (Initiation Notice).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination in a CVD investigation until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On December 16, 2024, the petitioner ² submitted a timely request that Commerce postpone the preliminary CVD determinations.³ The petitioner stated that postponement of the preliminary determinations is necessary because the current schedule does not provide Commerce with adequate time to fully analyze the forthcoming questionnaire responses of the mandatory respondents and issue supplemental questionnaires, as necessary.⁴

² The petitioner is Lonza Greenwood LLC.

³ See Petitioner's Letter, “Lonza's Request for Postponement of the Department's Countervailing Duty Preliminary Determinations,” dated December 16, 2024.

⁴ Id.

In accordance with 19 CFR 351.205(e), the petitioner submitted its request for postponement of the preliminary determinations in these investigations 25 days or more before the scheduled date of the preliminary determinations and stated the reasons for its request. Commerce finds no compelling reason to deny the request. Therefore, in accordance with section 703(c)(1)(A) of the Act, Commerce is postponing the deadline for the preliminary determinations in these investigations to no later than 130 days after the date on which it initiated these investigations, i.e., March, 24, 2025.⁵ Pursuant to section 705(a)(1) of the Act and 19 CFR 351.210(b)(1), the deadline for the final determinations of these investigations will continue to be 75 days after the date of the preliminary determinations.

⁵ Because the deadline for these preliminary results falls on the weekend (i.e., March 23, 2025), the deadline became the next business day (i.e., March 24, 2025). See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: December 19, 2024.
Abdelali Elouaradia,
Deputy Assistant Secretary for Enforcement and Compliance.

[FR Doc. 2025-00658 Filed 1-14-25; 8:45 am]

BILLING CODE 3510-DS-P